DEPARTMENT OF COMMERCE

International Trade Administration

[A-570-863]

Notice of Extension of Time Limit for Final Results of Fourth Antidumping Duty Administrative Review and the Eighth New Shipper Review: Honey From the People's Republic of China

AGENCY: Import Administration, International Trade Administration, Department of Commerce.

EFFECTIVE DATE: April 12, 2007

FOR FURTHER INFORMATION CONTACT: Judy Lao or Patrick Edwards, AD/CVD Operations, Office 7, Import Administration, International Trade Administration, U.S. Department of Commerce, 14th Street and Constitution Avenue, NW., Washington, DC 20230; telephone: (202) 482-7924 and (202) 482-8029, respectively.

Background

The Department of Commerce (the Department) published the preliminary results of the antidumping duty administrative review and the new shipper reviews on honey from the People's Republic of China (PRC) on January 3, 2007. See Honey from the People's Republic of China: Preliminary Results and Partial Rescission of Antidumping Duty Administrative Review, 72 FR 102 (January 3, 2007) and Honey from the People's Republic of China: Intent to Rescind, in Part, and Preliminary Results of Antidumping Duty New Shipper Reviews, 72 FR 111 (January 3, 2007). On October 25, 2006, the Department aligned the new shipper review proceeding with the administrative review. See Memorandum to All Interested Parties and File, through Abdelali Elouaradia, Program Manager, “2004-2005 New Shipper Review of Honey from the People's Republic of China: Waive of New Shipper Time Limits and Alignment of the New Shipper Review with the Administrative Review,” dated October 25, 2006.

Extension of Time Limits for Final Results

Pursuant to section 751(a)(3)(A) of the Tariff Act of 1930, as amended (the Act), and 19 CFR 351.213(h)(1), the Department shall issue the preliminary results of an administrative review within 245 days after the last day of the anniversary month of the date of publication of the order. The Act further provides that the Department shall issue the final results of review within 120 days after the date on which the notice of the preliminary results was published in the Federal Register. However, if the Department determines that it is not practicable to complete the review within this time period, section 751(a)(3)(A) of the Act and 19 CFR 351.213(h)(2) allow the Department to extend the 245-day period to 365 days and the 120-day period to 180 days.

Due to the complexity of the issues involved and the time required to analyze the numerous surrogate value information submissions and arguments raised in parties' briefs, as well as the demands of other proceedings handled by the office administering these reviews, the Department has determined that it is not practicable to complete these reviews within the original time period.

Section 751(a)(3)(A) of the Act and 19 CFR 351.213(h) allow the Department to extend the deadline for the final results of a review to a maximum of 180 days from the date on which the notice of the preliminary results was published. For the reasons noted above, the Department is extending the time limit for the completion of the final results for the fourth antidumping duty administrative review and the eighth new shipper review until no later than July 2, 2007, which is 180 days from the date on which the notice of the preliminary results was published.

This notice is issued and published in accordance with sections 751(a)(3)(A) and 777(i)(1) of the Act.

Dated: April 6, 2007.
Stephen J. Claeys,
Deputy Assistant Secretary for Import Administration.

[FR Doc. E7-6956 Filed 4-11-07; 8:45 am]

BILLING CODE 3510-DS-P